DEPARTMENT OF THE INTERIOR

Bureau of Ocean Energy Management, Regulation and Enforcement

[Docket ID No. BOEM-2011-0010]

BOEMRE Information Collection Activity: 1010-0141, Oil and Gas Drilling Operations, Extension of a Collection; Submitted for Office of Management and Budget (OMB) Review; Comment Request

AGENCY: Bureau of Ocean Energy Management, Regulation and Enforcement (BOEMRE), Interior.

ACTION: Notice of extension of an information collection (1010-0141).

SUMMARY: To comply with the Paperwork Reduction Act of 1995 (PRA), we are notifying the public that we have submitted to OMB an information collection request (ICR) to renew approval of the paperwork requirements in the regulations under “Oil and Gas Drilling Operations,” and related documents. This notice also provides the public a second opportunity to comment on the paperwork burden of these regulatory requirements and associated forms.

DATES: Submit written comments by September 12, 2011.

ADDRESSES: Submit comments by either fax (202) 395-5806 or e-mail (OIRA_DOCKET@omb.eop.gov) directly to the Office of Information and Regulatory Affairs, OMB, Attention: Desk Officer for the Department of the Interior (1010-0141). Please also submit a copy of your comments to BOEMRE by any of the means below.

• Electronically: Go to http://www.regulations.gov. In the entry titled, “Enter Keyword or ID,” enter BOEM-2011-0010 then click search. Follow the instructions to submit public comments and view supporting and related materials available for this collection. BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0141 in your comment and include your name and return address.

FOR FURTHER INFORMATION CONTACT: Cheryl Blundon, Regulations and Standards Branch, (703) 787-1607. To see a copy of the entire ICR submitted to OMB, go to http://www.reginfo.gov (select Information Collection Review, Currently Under Review). You may also contact Cheryl Blundon to obtain a copy, at no cost, of the regulations and forms that require the subject collection of information.

SUPPLEMENTARY INFORMATION: Title: 30 CFR subpart 250, subpart D, Oil and Gas Drilling Operations.

Forms: BOEMRE Forms 0123, 0123S, 0124, 0125, 0133, 0133S, and 0144. Note: Per Secretarial Orders 3299 and 3022, on October 1, 2011, the operation and inspection functions of BOEMRE will be transferred to a new bureau, Bureau of Safety and Environmental Enforcement (BSEE). Therefore, after October 1, these forms will be designated as BSEE forms; e.g., BOEMRE Form 0123 will be designated as Form BSEE 0123.

OMB Control Number: 1010-0141.

Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, the Bureau of Ocean Energy Management, Regulation, and Enforcement (BOEMRE) is required to charge fees for services that provide special benefits or privileges to an identifiable non-Federal recipient above and beyond those which accrue to the public at large. Applications for permits to drill and to modify drilling plans are subject to cost recovery, and BOEMRE regulations specify service fees for these requests.

It should be noted that over the past year, various regulations and/or NTLs regarding safety operations on the OCS have been initiated as a result of investigations, recommendations, and reports on the Deepwater Horizon event. Specifically, the subpart D regulatory requirements from the Increased Safety Measure for Energy Development on the Outer Continental Shelf, AD68 (75 FR 66632) rulemaking, are incorporated into this collection.

Regulations implementing these responsibilities are under 30 CFR part 250, subpart D. Responses are mandatory. No questions of a sensitive nature are asked. BOEMRE will protect proprietary information according to 30 CFR 250.197, “Data and information to be made available to the public or for limited inspection,” 30 CFR part 252, “OCS Oil and Gas Information Program,” and the Freedom of Information Act (5 U.S.C. 552) and its implementing regulations (43 CFR part 2).

BOEMRE uses the information to ensure safe drilling operations and to protect the human, marine, and coastal environment. Among other things, BOEMRE specifically uses the information to ensure: The drilling unit is fit for the intended purpose; the lessee or operator will not encounter geologic conditions that present a hazard to operations; equipment is maintained in a state of readiness and meets safety standards; each drilling crew is properly trained and able to promptly perform well-control activities at any time during well operations; compliance with safety standards; and the current regulations will provide for safe and proper field or reservoir development, resource evaluation, conservation, protection of correlative rights, safety, and environmental protection. We also review well records to ascertain whether drilling operations have encountered hydrocarbons or H2S and to ensure that H2S detection equipment, personnel protective equipment, and training of the crew are adequate for safe operations in zones known to contain H2S and zones where the presence of H2S is unknown.

The following forms are also submitted to BOEMRE under subpart D. The forms and their purposes are:

Application for Permit To Drill, BOEMRE Forms 0123 and 0123S

BOEMRE uses the information from these forms to determine the conditions of a drilling site to avoid hazards inherent in drilling operations. Specifically, we use the information to evaluate the adequacy of a lessee's or operator's plan and equipment for drilling, sidetracking, or deepening operations. This includes the adequacy of the proposed casing design, casing setting depths, drilling fluid (mud) programs, and cementing programs to ascertain that the proposed operations will be conducted in an operationally safe manner that provides adequate protection for the environment. BOEMRE also reviews the information to ensure conformance with specific provisions of the lease. In addition, except for proprietary data, BOEMRE is required by the OCS Lands Act to make available to the public certain information submitted on Forms 0123 and 0123S.

Application for Permit To Modify, BOEMRE Form 0124

The information on this form is used to evaluate and approve the adequacy of the equipment, materials, and/or procedures that the lessee or operator plans to use during drilling plan modifications, changes in major drilling equipment, and plugging back. In addition, except for proprietary data, BOEMRE is required by the OCS Lands Act to make available to the public certain information submitted on Form 0124.

End of Operations Report, BOEMRE Form 0125

This information is used to ensure that they have accurate and up-to-date data and information on wells and leasehold activities under their jurisdiction and to ensure compliance with approved plans and any conditions placed upon a suspension or temporary prohibition. It is also used to evaluate the remedial action in the event of well equipment failure or well control loss. Form 0125 is updated and resubmitted in the event the well status changes. In addition, except for proprietary data, BOEMRE is required by the OCS Lands Act to make available to the public certain information submitted on Form 0125.

Well Activity Report, BOEMRE Forms 0133 and 0133S

BOEMRE uses this information to monitor the conditions of a well and status of drilling operations. We review the information to be aware of the well conditions and current drilling activity (i.e., well depth, drilling fluid weight, casing types and setting depths, completed well logs, and recent safety equipment tests and drills). The engineer uses this information to determine how accurately the lessee anticipated well conditions and if the lessee or operator is following the approved Application for Permit to Drill (Form 0123). The information is also used for review of an APM (Form 0124). With the information collected on Form 0133 available, the reviewers can analyze the proposed revisions (e.g., revised grade of casing or deeper casing setting depth) and make a quick and informed decision on the request.

Rig Movement Notification Report, BOEMRE Form 0144

As activity increased over the years in the Gulf of Mexico (GOM), the rig notification requirement became essential for BOEMRE inspection scheduling and has become a standard condition of approval for certain permits. BOEMRE needs the information on Form 0144 to schedule inspections and verify that the equipment being used complies with approved permits. In reporting rig movements respondents have the option of submitting the form or using a web-based system for electronic data submissions. The information on this form is used primarily in the GOM to ascertain the precise arrival and departure of all rigs in OCS waters in the GOM. The accurate location of these rigs is necessary to facilitate the scheduling of inspections by BOEMRE personnel.

Out of the seven forms associated with this collection, we have made some minor editorial changes for clarity purposes to Forms 0123 and 0123S and we have added plug information to be submitted via Form 0125. The information is on the schematic that is submitted as an attachment.

Frequency: On occasion, annual; and as required in the permit.

Description of Respondents: Potential respondents comprise Federal oil, gas, or sulphur lessees and/or operators.

Estimated Reporting and Recordkeeping Hour Burden: The estimated annual hour burden for this information collection is a total of 215,624 hours. The following chart details the individual components and estimated hour burdens. In calculating the burdens, we assumed that respondents perform certain requirements in the normal course of their activities. We consider these to be usual and customary and took that into account in estimating the burden.

Citation 30 CFR 250 Subpart D and NTL(s) | Reporting and recordkeeping requirement | Non-hour cost burdens*: Hour Burden | Non-hour cost burdens*: Average number of annual responses | Non-hour cost burdens*: Annual burden hours (rounded)
General Requirements
402(b) | Request approval to use blind or blind-shear ram or pipe rams and inside BOP | 0.5 | 6 requests | 3
403 | Notify BOEMRE of drilling rig movement on or off drilling location | 0.1 | 20 notices | 2
| In GOM, rig movements reported on Form 0144 | 0.2 | 151 forms | 31
404 | Perform operational check of crown block safety device; record results (weekly) | 0.25 | 80 drilling rigs × 52 weeks = 4,160 | 1,040
408, 409 | Apply for use of alternative procedures and/or departures not requested in BOEMRE forms (including discussions with BOEMRE or oral approvals) | Burden covered under 1010-0114. |  | 0
Subtotal | 4,337 Responses | 1,076
Apply for a Permit To Drill
410-418, 420(a)(6); 423(b)(3), (c)(1); 449(j), (k); 456(j); plus various references in subparts A, B, D, E, H, P, Q | Apply for permit to drill, sidetrack, bypass, or deepen a well that includes any/all supporting documentation/evidence [test results, calculations, verifications, procedures, criteria, qualifications, etc.] and request for various approvals required in subpart D (including §§ 250.424; 425; 427; 428; 432; 442(c); 447; 448(c); 451(g); 460; 490(c)) and submitted via BOEMRE Forms 0123 (Application for Permit to Drill) and 0123S (Supplemental APD Information Sheet) | 100 | 372 forms | 37,200
| $1,959 fee × 372 = $728,748
410(b); 417(b) | Reference to Exploration Plan, Development and Production Plan, Development Operations Coordination Document (30 CFR 250, subpart B)—burden covered under 1010-00151. |  |  | 0
416(g)(2) | Provide 24 hour advance notice of location of shearing ram tests or inspections; allow BOEMRE access to witness testing, inspections, and information verification | 0.25 | 100 notifications | 25
417(a), (b) | Collect and report additional information on case-by-case basis if sufficient information is not available | 5 | 30 report | 150
417(c) | Submit 3rd party review of drilling unit according to 30 CFR 250, subpart I—burden covered under 1010-0149. |  |  | 0
418(e) | Submit welding and burning plan according to 30 CFR 250, subpart A—burden covered under 1010-0114. |  |  | 0
Subtotal | 502 Responses | 37,375 Hours
| $728,748 Non-Hour Cost Burdens
Casing and Cementing Requirements
420(b)(3) | Submit dual mechanical barrier documentation after installation | 0.75 | 308 submittals | 231
423(b)(4), (c)(2) | Perform pressure casing test; document results and make available to BOEMRE upon request | 0.75 | 1,540 tests | 1,155
424 | Caliper, pressure test, or evaluate casing; submit evaluation results; request approval before resuming operations or beginning repairs (every 30 days during prolonged drilling) | 1 | 60 | 60
426 | Record results of all casing and liner pressure tests | 2 | 4,160 record results | 8,320
427(a) | Record results of all pressure integrity tests and hole behavior observations re formation integrity and pore pressure | 2 | 4,160 record results | 8,320
Subtotal | 10,228 Responses | 18,086
Diverter System Requirements
434; 467 | Perform diverter tests when installed and once every 7 days; actuate system at least once every 24-hour period; record results (average 2 per drilling operation); retain all charts/reports relating to diverter tests/actuations at facility for duration of drilling well | 2 | 616 Responses | 1,232
Blowout Preventer (BOP) System Requirements
442(h) | Label all functions on all panels | 1. | 33 panels | 50
442(i) | Develop written procedures for management system for operating the BOP stack and LMRP | 8 | 33 procedures | 264
442(j) | Establish minimum requirements for authorized personnel to operate critical BOP equipment; require training | Burden covered under 1010-0128. |  | 0
446(a) | Document BOP maintenance and inspection procedures used; record results of BOP inspections and maintenance actions; maintain records for 2 years; make available to BOEMRE upon request | 3 | 80 records | 240
449(j)(2) | Document all ROV intervention function test results; make available to BOEMRE upon request | 1 | 110 tests | 110
449(k)(2) | Document all autoshear and deadman on your subsea BOP systems function test results; make available to BOEMRE upon request | 1 | 110 tests | 110
450; 467 | Document and record BOP pressure tests results, actuations and inspections; at a minimum every 14 days; as stated for components; sign as correct. Retain all records, including charts, report and referenced documents for the duration of drilling the well | 11 | 80 test results | 880
451(c) | Record reason for postponing BOP test (on occasion—approx. 2/year) in driller's report | 0.25 | 80 records | 20
Subtotal | 526 Responses | 1,674
Drilling Fluid Requirements
456(b), (i) | Document/record in the driller's report everytime you circulate drilling fluid; results of drilling fluid tests | 1 | 4,160 records | 4,160
456(c), (f) | Perform various calculations; post calculated drill pipe, collar, and drilling fluid volume; as well as maximum pressures | 1 | 4,160 postings | 4,160
458(b) | Record daily drilling fluid and materials inventory in drilling fluid report | 0.5 | 29,200 records | 14,600
459(a)(3) | Request exception to procedure for protecting negative pressure area | Burden included under 1010-0114
Subtotal | 37,520 Responses | 22,920
Other Drilling Requirements
460; 465; 449(j), (k); 456(j); plus various references in subparts A, D, E, F, H, P, and Q | Submit revised plans (including but not limited to, plugback; final surface location, water depth, rotary Kelly bushing elevation; moving drill unit from wellbore w/o completing well, etc), well/drilling records, procedures, certifications that include any/all supporting documentation etc., and request for various approvals required in subpart D on BOEMRE Forms 0124 (Application for Permit to Modify) or 0125 (End of Operations Report) and supporting information | 17 | Form 0124 4,141 | 70,397
| $116 fee × 4,141 = $480,356
|  | 2 | Form 0125 239 | 478
460 | Submit plans and obtain approval to conduct well test; notify BOEMRE before test | 7 | 19 requests | 133
461(a-b); 466(e); 468(a) | Record and submit well logs and surveys run in the wellbore and/or charts of well logging operations (including but not limited to, etc | 3 | 281 logs/surveys | 843
| Record and submit directional and vertical-well surveys | 1 | 281 reports | 281
| Record and submit velocity profiles and surveys | 1 | 55 reports | 55
| Record and submit core analyses | 1 | 150 analyses | 150
461(e) | Provide copy of well directional survey to affected leaseholder | 0.75 | 10 occasions | 8
462(a) | Prepare and post well control drill plan for crew members | 0.5 | 308 plans | 154
462(c) | Record results of well-control drills | 1 | 8,320 results | 8,320
463(b) | Request field drilling rules be established, amended, or canceled | 2.5 | 3 requests | 8
465(a)(1), 428, 449(j) & k(1), 456(j) | Obtain approval to revise your drilling plan or change major drilling equipment by submitting a revised Form 0123, Application for Permit to Drill and Form 0123S, Supplemental APD Information Sheet [no fee for Revised APDs] | 35 | 381 submittals | 13,335
Subtotal | 14,188 Responses | 94,162
| $480,356 Non-Hour Cost Burdens
Applying for a Permit To Modify and Well Records
466, 467 | Retain drilling records for 90 days after drilling is complete; retain casing/liner pressure, diverter, and BOP records for 2 years; retain well completion/well workover until well is permanently plugged/abandoned or lease is assigned | 2.15 | 3,460 records | 7,439
468(b); 465(b)(3) | In the GOM OCS Region, submit drilling activity reports weekly on Forms 0133 (Well Activity Report) and 0133S (Bore Hole Data) and supporting information | 1 | Form 0133 4,160 Form 0133S 4,160 | 4,160 4,160
468(c) | In the Pacific and Alaska OCS Regions during drilling operations, submit daily drilling reports. N/A in GOM | 1 | 14 wells × 365 days × 20% year = 1,022 | 1,022
469 | As specified by region, submit well records, paleontological interpretations or reports, service company reports, and other reports or records of operations | 1.5 | 308 submissions | 462
Subtotal |  |  | 13,110 Responses | 17,243
Hydrogen Sulfide
490(c), (d) | Submit request for reclassification of H2S zone; notify BOEMRE if conditions change | 0.5 | 2 responses | 1
490(f); also referenced in 418(d) | Submit contingency plans for operations in H2S areas (16 drilling, 5 work-over, 6 production) | 30 | 26 plans | 780
490(g) | Post safety instructions; document training; retain records at facility where employee works; train on occasion and/or annual refresher (approx. 2/year) | 4 | 26 | 104
490(h)(2) | Document and retain attendance for weekly H2S drills and monthly safety mtgs until operations completed or for 1 year for production facilities at nearest field office | 2 | 2,716 | 5,432
490(i) | Display warning signs—no burden as facilities would display warning signs and use other visual and audible systems. |  |  | 0
490(j)(7-8) | Record H2S detection and monitoring sensors during drilling testing and calibrations; make available upon request | 4 | 3,650 records | 14,600
490(j)(12) | Propose alternatives to minimize or eliminate SO2 hazards—submitted with contingency plans—burden covered under § 250.490(f). |  |  | 0
490(j)(13)(vi) | Label breathing air bottles—no burden as supplier normally labels bottles; facilities would routinely label if not. |  |  | 0
490(l) | Notify (phone) BOEMRE of unplanned H2S releases (approx. 2/year) | Oral 0.2 | 52 calls | 11
|  | Written 5 | 52 written reports | 260
490(o)(5) | Request approval to use drill pipe for well testing | 2 | 2 requests | 4
490(q)(1) | Seal and mark for the presence of H2S cores to be transported—no burden as facilities would routinely mark transported cores. |  |  | 0
490(q)(9) | Request approval to use gas containing H2S for instrument gas | 2 | 2 requests | 4
490(q)(12) | Analyze produced water disposed of for H2S content and submit results to BOEMRE | 3 | 200 submittals | 600
Subtotal | 6,728 Responses | 21,792
Miscellaneous
400-490 | General departure or alternative compliance requests not specifically covered elsewhere in subpart D | 2 | 22 | 44
NTL | Voluntary submit to USCG read only access to the EPIRB data for their moored drilling rig fleet before hurricane season | .25 | 80 | 20
Subtotal | 102 Responses | 64
TOTAL BURDEN | 87,857 Responses | 215,624
| $1,209,104 Non-Hour Cost Burdens

Estimated Reporting and Recordkeeping Non-Hour Cost Burden: We have identified two non-hour cost burdens for this collection. When respondents submit an Application for Permit to Drill (BOEMRE Form 0123), they submit a $1,959 fee for initial applications only (there is no fee for revisions); and when respondents submit an Application for Permit to Modify (BOEMRE Form 0124), they submit a $116 fee. Refer to the table in Section A.12 to see these specific fee breakdowns. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 15, 2011, we published a Federal Register notice (76 FR 21395) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by September 12, 2011.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: July 20, 2011.
Doug Slitor,
Acting Chief, Office of Offshore Regulatory Programs.

[FR Doc. 2011-20558 Filed 8-11-11; 8:45 am]

BILLING CODE 4310-MR-P